DEPARTMENT OF DEFENSE

Office of the Secretary

Notice of Federal Advisory Committee Meeting

AGENCY: Department of Defense.

ACTION: Notice.

SUMMARY: Under the provision of the Federal Advisory Committee Act of 1972 (5 U.S.C., appendix as amended), the Government in the Sunshine Act of 1976 (5 U.S.C. 552b as amended), and 41 CFR 102-3.150, the Department of Defense announces that the following federal advisory committee meeting of the DoD Board of Actuaries will take place:

DATES: July 14-15, 2011, from 1 p.m.-5 p.m. on July 14, 2011, and 10 a.m.-1 p.m. on July 15, 2011.

ADDRESSES: 4040 N. Fairfax Drive, Suite 250, Arlington, VA 22203.

FOR FURTHER INFORMATION CONTACT: Inger Pettygrove at the DoD Office of the Actuary, 4040 N. Fairfax Drive, Suite 308, Arlington, VA 22203.

SUPPLEMENTARY INFORMATION: Purpose of the meeting: The purpose of the meeting is to review actuarial methods and assumptions to be used in the valuations of the Education Benefits Fund, the Military Retirement Fund, and the Voluntary Separation Incentive Fund, in accordance with the provisions of Section 183, Section 2006, Chapter 74 (10 U.S.C. 1464 et seq.), and Section 1175 of Title 10.

Agenda: Education Benefits Fund (July 14, 1 p.m.-5 p.m.)

Meeting Objective for Today

Board Approval of Proposed Economic Assumptions for September 30, 2010 Valuations

Board Approval of Proposed Methods and Assumptions for September 30, 2010 Valuation of Reserve Programs (FY 2013 Per Capita Amounts and Amortization Payments)

Board Approval of Proposed Methods and Assumptions for September 30, 2010 Valuation of Active Duty Programs (FY 2013 Per Capita Amounts and Amortization Payments)

Board Approval of Proposed FY 2012 Post-Funding Amounts for Voluntary and Involuntary Separatees

Briefing on Investment Experience

Developments in Education Benefits

September 30, 2010 Valuation—Economic Assumptions

Presentation

Board Decision

September 30, 2010 Valuation—Reserve Programs

Presentation

Board Decision

September 30, 2010 Valuation—Active Duty Programs

Presentation

Board Decision

FY 2012 Post-Funding Amounts for Voluntary and Involuntary Separatees

Presentation

Board Decision

Agenda: Military Retirement Fund (July 15, 10 a.m.-1 p.m.)

Meeting Objective for Today

Board Approval of Proposed FY 2012 Military Retirement Fund Unfunded Liability Amortization Payment (September 30, 2010 Valuation of the Military Retirement System)

Board Approval of Proposed Economic and Non-Economic Methods and Assumptions for September 30, 2011 Valuation of the Military Retirement System (FY 2013 Normal Cost Percentages)

Board Approval of Proposed Economic and Non-Economic Methods and Assumptions for December 31, 2010 Valuation of the Voluntary Separation Incentive (VSI) Fund (FY 2013 Amortization Payment)

Briefing on Investment Experience

Recent and Proposed Legislation

September 30, 2010 Valuation of the Military Retirement System (MRS) and FY 2012 Unfunded Liability Amortization Payment

Presentation

Board Decision

September 30, 2011 Valuation of the MRS (FY 2013 Normal Cost Percentages)

Presentation

Board Decision

December 31, 2010 Valuation of the VSI Fund (FY 2013 Amortization Payment)

Presentation

Board Decision

Public's accessibility to the meeting: Pursuant to 5 U.S.C. 552b and 41 CFR 102-3.140 through 102-3.165, and the availability of space, this meeting is open to the public. Seating is on a first come basis.

Committee's Designated Federal Officer or Point of Contact: Persons desiring to attend the DoD Board of Actuaries meeting or make an oral presentation or submit a written statement for consideration at the meeting must notify Inger Pettygrove at 703-696-7413 by June 9, 2011.

Dated: February 8, 2011.
Morgan F. Park,
Alternate OSD Federal Register Liaison Officer, Department of Defense.

[FR Doc. 2011-3201 Filed 2-11-11; 8:45 am]

BILLING CODE 5001-06-P